DEPARTMENT OF HOUSING AND URBAN DEVELOPMENT

[Docket No. FR-5909-N-34]

30-Day Notice of Proposed Information Collection: Screening and Eviction for Drug Abuse and Other Criminal Activity

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: June 3, 2016.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on February 8, 2016 at 81 FR 6535.

A. Overview of Information Collection

Title of Information Collection: Screening and Eviction for Drug Abuse and Other Criminal Activity.

OMB Approval Number: 2577-0232.

Type of Request: Reinstatement, with change, of a previously approved collection.

Form Number: None.

Description of the need for the information and proposed use: The information and collection requirements consist of PHAs screening requirements to obtain criminal conviction records from law enforcement agencies to prevent admission of criminals into the Public Housing and Section 8 programs and to assist in lease enforcement and eviction of those individuals in the Public Housing and Section 8 programs who engage in criminal activity.

Respondents: State, Local or Tribal Government, Public Housing Agencies (PHAs), Individuals or Households.

Information collection | Response type and number | Frequency of response | Frequency per annum | Burden hour per response | Annual burden hours
HUD-2577-0232 | A. 93,289 | 1 | 93,289 | 1 | 93,289
| B. 1,711,933 | 0.04 | 68,477 | 9 | 616,293
| C. 124,821 | 1 | 124,821 | 1 | 124,821
| D. 3,567,789 | 0.04 | 142,712 | 9 | 1,284,408
Total | 5,497,832 |  | 429,299 |  | 2,118,811

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: April 26, 2016.
Colette Pollard,
Department Reports Management Officer, Office of the Chief Information Officer.

[FR Doc. 2016-10446 Filed 5-3-16; 8:45 am]

BILLING CODE 4210-67-P